DEPARTMENT OF THE INTERIOR

National Park Service

[NPS-WASO-NAGPRA-NPS0040084; PPWOCRADN0-PCU00RP14.R50000]

Notice of Inventory Completion: California State University, Sacramento, Sacramento, CA and East Bay Municipal Utility District, Oakland, CA

AGENCY: National Park Service, Interior.

ACTION: Notice.

SUMMARY: In accordance with the Native American Graves Protection and Repatriation Act (NAGPRA), the California State University, Sacramento, and East Bay Municipal Utility District (EBMUD) have completed an inventory of human remains and associated funerary objects and have determined that there is a cultural affiliation between the human remains and associated funerary objects and Indian Tribes in this notice.

DATES: Repatriation of the human remains and associated funerary objects in this notice may occur on or after June 9, 2025.

ADDRESSES: Dr. Mark Wheeler, Chief of Staff to President Luke Wood, California State University, Sacramento, 6000 J Street Sacramento, CA 95819, telephone (916) 460-0490, email mark.wheeler@csus.edu and Charles Beckman, Manager of Watershed and Recreation, East Bay Municipal Utility District, 15083 Camanche Parkway South, Valley Springs, CA 95252, telephone (209) 772-8203, email charles.beckman@ebmud.com.

SUPPLEMENTARY INFORMATION: This notice is published as part of the National Park Service's administrative responsibilities under NAGPRA. The determinations in this notice are the sole responsibility of the California State University, Sacramento, and EBMUD, and additional information on the determinations in this notice, including the results of consultation, can be found in their inventory or related records. The National Park Service is not responsible for the determinations in this notice.

Abstract of Information Available

Human remains representing, at minimum, 90 individuals were removed from CA-CAL-185 (also known as Camanche Creek Cave), CA-CAL-191 (also known as Cook Ranch #6), CA-CAL-198 (also known as Canal Cave), CA-CAL-217 (also known as Hagar Village), CA-CAL-224 (also known as the Dance House Site or No Name Creek), and CA-CAL-237 (also known as the Old Bridge Site). The 45,740 associated funerary objects removed from these sites include baked clay objects; flaked and ground stones; unmodified stones; historic materials; faunal and floral remains; modified bone, stone, shell, and wood objects; pigments; geologic samples; coprolites; thermally altered rocks; manuports; ash; charcoal samples; unidentified objects; soil samples; and slag. Of this number, at least 807 objects are currently missing from the collections. California State University, Sacramento continues to look for any missing objects. These human remains and associated funerary objects were removed from the sites listed above during surveys and excavations conducted in the 1950s and 1960s prior to the inundation of Camanche Reservoir under the direction of California State University, Sacramento faculty and students William Beeson, Jerald Johnson, Louis Payen, William Hansen, and David Boloyan. They have since been housed at the California State University, Sacramento under accession numbers 81-195, 81-429, 81-197, 81-199, 81-425, and 81-194.

Cultural Affiliation

Based on the information available and the results of consultation, cultural affiliation is clearly identified by the information available about the human remains and associated funerary objects described in this notice.

Determinations

The California State University, Sacramento and EBMUD have determined that:

• The human remains described in this notice represent the physical remains of 90 individuals of Native American ancestry.

• The 45,740 objects described in this notice are reasonably believed to have been placed with or near individual human remains at the time of death or later as part of the death rite or ceremony.

• There is a relationship of shared group identity that can be reasonably traced between the human remains and associated funerary objects described in this notice and the Buena Vista Rancheria of Me-Wuk Indians of California; California Valley Miwok Tribe, California; Chicken Ranch Rancheria of Me-Wuk Indians of California; Ione Band of Miwok Indians of California; Jackson Band of Miwuk Indians; and the Tuolumne Band of Me-Wuk Indians of the Tuolumne Rancheria of California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after June 9, 2025. If competing requests for repatriation are received, the California State University, Sacramento and EBMUD must determine the most appropriate requestor prior to repatriation. Requests for joint repatriation of the human remains and associated funerary objects are considered a single request and not competing requests. The California State University, Sacramento and EBMUD are responsible for sending a copy of this notice to the Indian Tribes and Native Hawaiian organizations identified in this notice.

Authority: Native American Graves Protection and Repatriation Act, 25 U.S.C. 3003, and the implementing regulations, 43 CFR 10.10.

Dated: April 22, 2025.
Melanie O'Brien,
Manager, National NAGPRA Program.

[FR Doc. 2025-08033 Filed 5-7-25; 8:45 am]

BILLING CODE 4312-52-P